DEPARTMENT OF HOMELAND SECURITY

Coast Guard

33 CFR Part 165

[Docket No. USCG-2013-0969]

Safety Zone; Sacramento New Years Eve Fireworks Display, Sacramento River, Sacramento, CA

AGENCY: Coast Guard, DHS.

ACTION: Notice of enforcement of regulation.

SUMMARY: The Coast Guard will enforce the 1,000 foot safety zone in the navigable waters of the Sacramento River in Sacramento, CA on December 31, 2013 during the Sacramento New Years Eve Fireworks Display. The fireworks display will occur from 9 p.m. to 9:20 p.m. on December 31, 2013 for the annual Sacramento New Years Eve Fireworks Display. This action is necessary to control vessel traffic and to help protect the safety of event participants and spectators. During the enforcement period, unauthorized persons or vessels are prohibited from entering into, transiting through, or anchoring in the safety zone, unless authorized by the Patrol Commander (PATCOM).

DATES: The regulation in 33 CFR 165.1191, Table 1, Item number 29, will be enforced from 9 p.m. to 9:20 p.m. on December 31, 2013.

FOR FURTHER INFORMATION CONTACT: If you have questions on this notice, call or email Lieutenant Junior Grade William Hawn, U.S. Coast Guard Sector San Francisco; telephone (415) 399-7442 or email at D11-PF-MarineEvents@uscg.mil.

SUPPLEMENTARY INFORMATION: The Coast Guard will enforce the Sacramento New Years Eve Fireworks Display safety zone in the navigable waters of the Sacramento River around the Tower Bridge in Sacramento, CA in approximate position 38°34′49.98″ N, 121°30′29.61″ W (NAD 83). Upon the commencement of the fireworks display, scheduled to begin at 9 p.m. on December 31, 2013, the safety zone will encompass the navigable waters around the fireworks launch site on the Tower Bridge in Sacramento, CA in approximate position: 38°34′49.98″ N, 121°30′29.61″ W (NAD 83) within a radius of 1,000 feet. At the conclusion of the fireworks display the safety zone shall terminate. This safety zone will be in effect from 9 p.m. to 9:20 p.m. on December 31, 2013.

Under the provisions of 33 CFR 165.1191, unauthorized persons or vessels are prohibited from entering into, transiting through, or anchoring in the safety zone during all applicable effective dates and times, unless authorized to do so by the PATCOM. Additionally, each person who receives notice of a lawful order or direction issued by an official patrol vessel shall obey the order or direction. The PATCOM is empowered to forbid entry into and control the regulated area. The PATCOM shall be designated by the Commander, Coast Guard Sector San Francisco. The PATCOM may, upon request, allow the transit of commercial vessels through regulated areas when it is safe to do so.

This notice is issued under authority of 33 CFR 165.1191 and 5 U.S.C. 552(a). In addition to this notice in the Federal Register, the Coast Guard will provide the maritime community with extensive advance notification of the safety zone and its enforcement period via the Local Notice to Mariners. If the Captain of the Port determines that the regulated area need not be enforced for the full duration stated in this notice, a Broadcast Notice to Mariners may be used to grant general permission to enter the regulated area.

Dated: November 26, 2013.
Gregory G. Stump,
Captain, U.S. Coast Guard, Captain of the Port San Francisco.

[FR Doc. 2013-29730 Filed 12-12-13; 8:45 am]

BILLING CODE 9110-04-P